DEPARTMENT OF THE INTERIOR

Bureau of Reclamation

San Luis Unit Long-Term Contract Renewal

AGENCY: Bureau of Reclamation, Interior.

ACTION: Extension of comment period for review of Draft Environmental Impact Statement (DEIS).

SUMMARY: The Bureau of Reclamation is extending the comment period for the DEIS to January 17, 2006. The notice of availability of the DEIS and notice of public workshop and notice of public hearings was published in the Federal Register on September 30, 2005 (70 FR 57324). The public comment period was originally to end on November 21, 2005.

DATES: Submit comments on the DEIS on or before January 17, 2006.

ADDRESSES: Send comments on the DEIS to Mr. Shane Hunt, Bureau of Reclamation, South-Central California Area Office, 1243 N Street, Fresno, CA 93721. Comments may also be e-mailed to shunt@mp.usbr.gov. Copies of the DEIS may be requested by calling Mr. Hunt at 559-487-5138, TDD 559-487-5933.

FOR FURTHER INFORMATION CONTACT: Mr. Shane Hunt at 559-487-5138, TDD 559-487-5933.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: November 29, 2005.
Michael Nepstad,
Deputy Regional Environmental Officer, Mid-Pacific Region.

[FR Doc. E5-6871 Filed 12-5-05; 8:45 am]

BILLING CODE 4310-MN-P